DEPARTMENT OF DEFENSE

Office of the Secretary

[Docket ID DoD-2013-OS-0140]

Privacy Act of 1974; System of Records

AGENCY: Office of the Secretary, DoD.

ACTION: Notice to add a new System of Records.

SUMMARY: The Office of the Secretary of Defense proposes to add a new system of records, DWHS P50, iCompass, Learning Management System (LMS), to its inventory of record systems subject to the Privacy Act of 1974 (5 U.S.C. 552a), as amended. This system will manage and administer a Learning Management System (LMS) for training and development programs; for the purpose of reporting, tracking, assessing and monitoring training events, and DoD Financial Management certifications.

DATES: This proposed action will be effective on August 23, 2013 unless comments are received which result in a contrary determination. Comments will be accepted on or before August 22, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571)372-0461.

SUPPLEMENTARY INFORMATION: The Office of the Secretary of Defense notices for systems of records subject to the Privacy Act of 1974 (5 U.S.C. 552a), as amended, have been published in the Federal Register and are available from the address in FOR FURTHER INFORMATION CONTACT or the Defense Privacy and Civil Liberties Office Web site at http://dpclo.defense.gov/privacy/SORNs/component/osd/index.html. The proposed system report, as required by 5 U.S.C. 552a(r) of the Privacy Act of 1974, as amended, was submitted on June 11, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: July 17, 2013.
Aaron Siegel
Alternate OSD Federal Register Liaison Officer, Department of Defense.

DWHS P50

System name:

iCompass, Learning Management System (LMS).

System location:

Verizon Business—IAD6, 21830 UUNET Way, Ashburn, VA 20147-5856.

Backup: Internap's, Digital Realty Trust, 2121 South Price Road, Chandler, AZ 85286-7205.

Categories of individuals covered by the system:

Civilians, military members, and contractors assigned to the following Office of the Secretary of Defense (OSD) offices: Acquisition Technology and Logistics; U.S. Court of Appeals for Armed Forces; DoD Comptroller Office; Office of the Director Administration and Management; Deputy Chief Management Officer; Office of Military Commissions; Defense Legal Services Agency/Defense Office of Hearings and Appeals; Defense Security Cooperation Agency; Defense Test Resource Management Center; Defense Technology Security Administration; Intelligence Oversight; Joint Chiefs of Staff and the Joint Staff; Office of the Assistant Secretary of Defense (OASD) Legislative Affairs; Net Assessment; Network & Information Integration; Office of Economic Adjustment; DoD Office of General Counsel; OSD Operation Test & Evaluation; Office of the Under Secretary of Defense (OUSD) Intelligence; Cost Assessment and Program Evaluation; Pentagon Force Protection Agency; OUSD Policy; Defense Prisoner of War/Missing Personnel Office; Personnel and Readiness; Assistant to the Secretary of Defense for Public Affairs; White House Military Office; Washington Headquarters Services (WHS); WHS Federal Voting Assistance Program; WHS Welfare & Recreation Association; and Military and DoD civilian financial managers.

Categories of records in the system:

Name, DoD identification (DoD ID) number, position title, work phone number, pay plan, series, grade, organization, supervisor, hire date, course name and course date and time of completed trainings, educational level of civilian employees, and Financial Management (FM) certification level.

Authority for maintenance of the system:

5 U.S.C. Chapter 41, Government Employees Training Act; 5 CFR part 410, Office of Personnel Management—Training; DoDD 5105.53, Director of Administration and Management (DA&M); DoDD 5110.4, Washington Headquarters Services (WHS); and DTM 13-004, Operation of the DoD Financial Management Certification Program.

Purpose(s):

To manage and administer a Learning Management System (LMS) for training and development programs; to identify individual training needs; for the purpose of reporting, tracking, assessing and monitoring training events, and DoD FM certifications.

Routine uses of records maintained in the system, including categories of users and the purposes of such uses:

In addition to those disclosures generally permitted under 5 U.S.C. 552a(b) of the Privacy Act of 1974, as amended, the records contained herein may specifically be disclosed outside the DoD as a routine use pursuant to 5 U.S.C. 552(b)(3) as follows:

The DoD Blanket Routine Uses set forth at the beginning of the OSD compilation of systems of records notices may apply to this system.

Policies and practices for storing, retrieving, accessing, retaining, and disposing of records in the system:

Storage:

Electronic storage media.

Retrievability:

Name and DoD ID number.

Safeguards:

Records are maintained in DoD and in commercially controlled facilities. Physical entry is restricted by the use of locks, security guards, card swipe, and identification badges and is accessible only to authorized personnel. Access to records is limited to personnel responsible for servicing the record in performance of their official duties and who are properly screened and cleared for need-to-know. Access to data is restricted through the use of a Common Access Card, pin and login access to system. System is password protected and includes data encryption on and offsite. Records are stored in an encrypted database and access requires token authentication. Periodic security audits, regular monitoring of user's security practices, and methods to ensure only authorized personnel access records are applied.

Retention and disposal:

Records are destroyed/deleted 5 years after the separation/retirement or after 2 years of inactivity period of individual.

System manager(s) and address:

Program Manager, Washington Headquarters Services, Human Resource Directorate (HRD)/Learning and Development Division (L&DD), 4800 Mark Center Drive, Alexandria, VA 22350-3200.

Notification procedures:

Individuals seeking to determine whether information about themselves is contained in this system should address written inquiries to the Washington Headquarters Services, Human Resource Directorate/Transparency and Tools Division, Attn: LMS Program Manager, 4800 Mark Center Drive, Alexandria, VA 22305-3200.

Requests should contain individual's full name, office name where they were assigned or affiliated, and office address and telephone number applicable to the period during which the records were maintained.

Record access procedures:

Individuals seeking access to records about themselves should address written inquiries to the Office of the Secretary of Defense/Joint Staff Freedom of Information Act, Requester Service Center, Office of Freedom of Information, 1155 Defense Pentagon, Washington, DC 20301-1155.

Signed, written requests should contain individual's full name, office name where they were assigned or affiliated, and office address and telephone number applicable to the period during which the records were maintained.

Contesting record procedures:

The OSD rules for accessing records, for contesting contents and appealing initial agency determinations are published in OSD Administrative Instruction 82; 32 CFR part 311; or may be obtained from the system manager.

Record source categories:

Individual; Defense Civilian Personnel Data System (DCPDS); Military Personnel (MILPERS) and the Active Directory (for contractors).

Exemptions claimed for the system:

None.

[FR Doc. 2013-17581 Filed 7-22-13; 8:45 am]

BILLING CODE 5001-06-P